DEPARTMENT OF COMMERCE

National Oceanic and Atmospheric Administration

Agency Information Collection Activities; Submission to the Office of Management and Budget (OMB) for Review and Approval; Comment Request; Chesapeake Bay Watershed Environmental Literacy Indicator Tool

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 4, 2022 (87 FR 66657) during a 60-day comment period. This notice allows for an additional 30 days for public comments.

Agency: National Oceanic and Atmospheric Administration (NOAA), Commerce.

Title: Chesapeake Bay Watershed Environmental Literacy Indicator Tool.

OMB Control Number: 0648-0753.

Form Number(s): None.

Type of Request: Regular submission; Extension of a current information collection.

Number of Respondents: 685.

Average Hours per Response: 1 hour.

Total Annual Burden Hours: 229.

Needs and Uses: The Chesapeake Bay Watershed Agreement of 2014 required monitoring of progress toward the environmental literacy goal: “Enable students in the region to graduate with the knowledge and skills needed to act responsibly to protect and restore their local watersheds.” NOAA, on behalf of the Chesapeake Bay Program, will ask the state education agencies for Maryland, Pennsylvania, Delaware, Virginia, West Virginia, and the District of Columbia to survey their local education agencies (LEAs) to determine: (1) LEA capacity to implement a comprehensive and systemic approach to environmental literacy education, (2) student participation in Meaningful Watershed Educational Experience during the school year, (3) sustainability practices at schools, and (4) LEA needs for improving environmental literacy education programming. LEAs (generally school districts, in some cases charter school administration) are asked to complete the survey on the status of their LEA on a set of key indicators for the four areas listed above. One individual from each LEA is asked to complete their survey once every two years. The results of the biennial ELIT survey will be analyzed and reported to the internal stakeholders of the Chesapeake Bay Watershed Agreement. Participating states will receive a summarized report of findings for the full watershed, a summary of findings for their state, and comparisons of results between states. These aggregated results will be used by the state agencies to understand progress of their school districts over time, and to inform decision-making about strategies and priorities for future work with school districts. Additionally, NOAA will use this information to inform priorities within their B-WET funding opportunities and technical assistance. The biennial reporting will also be used by the Chesapeake Bay Program to understand progress of school districts in the watershed, understand differences between jurisdictions, and guide strategy for providing targeted support in each state. The instrument has not undergone any changes since its last PRA approval process.

Affected Public: State, Local and Tribal Governments.

Frequency: Biennially.

Respondent's Obligation: Voluntary.

Legal Authority: US Code: 42 U.S.C. 4321 et seq. Name of Law: National Environmental Policy Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0753.

Sheleen Dumas,
Department PRA Clearance Officer, Office of the Chief Information Officer, Commerce Department.

[FR Doc. 2023-04771 Filed 3-7-23; 8:45 am]

BILLING CODE 3510-22-P